DEPARTMENT OF THE INTERIOR

National Park Service

[N6891; NPS-WASO-NAGPRA-NPS0041889; PPWOCRADN0-PCU00RP14.R50000]

Notice of Inventory Completion: San Bernardino County Museum, Redlands, CA

AGENCY: National Park Service, Interior.

ACTION: Notice.

SUMMARY: In accordance with the Native American Graves Protection and Repatriation Act (NAGPRA), San Bernardino County Museum has completed an inventory of human remains and associated funerary objects and has determined that there is a cultural affiliation between the human remains and associated funerary objects and Indian Tribes or Native Hawaiian organizations in this notice.

DATES: Repatriation of the human remains and associated funerary objects in this notice may occur on or after February 26, 2026.

ADDRESSES: Send written requests for repatriation of the human remains and associated funerary objects in this notice to Gabrielle Carpentier, San Bernardino County Museum, 2024 Orange Tree Lane, Redlands, CA 92374, email gabrielle.carpentier@sbcm.sbcounty.gov.

SUPPLEMENTARY INFORMATION: This notice is published as part of the National Park Service's administrative responsibilities under NAGPRA. The determinations in this notice are the sole responsibility of San Bernardino County Museum, and additional information on the determinations in this notice, including the results of consultation, can be found in its inventory or related records. The National Park Service is not responsible for the determinations in this notice.

Abstract of Information Available

Human remains representing, at least, one individual has been identified. The one associated funerary object is one candle. This collection is from Independence, CA near Owens River and was collected by Benjamin E. McCown.

Statement From Sean Scruggs, Tribal Historic Preservation Officer for the Fort Independence Indian Reservation in Eastern California

Words cannot capture or convey the outrage and sorrow that I and my tribal community feel about this “Notice of Intended Repatriation”. Mr. Benjamin E. McCown, with a single action, destroyed the “spiritual and physical integrity” of an ancestors final resting place. There was no thought or regard about the work that would eventually be necessary to complete the child's journey on earth, or about the pain and torment of their parents who are waiting for them in the spiritual world.

As a Tribal Historic Preservation Officer (THPO), I do not receive funding from my grant to perform functions related to the task of repatriation. Rarely, if ever, is any consideration given to the harsh reality of generational trauma that our tribal community feels and experiences through processes like these or to the emotional weight and trauma that this puts upon myself and others who perform these acts of service on what is quickly becoming a daily basis.

If these were the remains of a regular citizen today, the public and media would explode with a call-to-action demanding justice, an immediate stop to the act of collecting and a quick conclusion to this severe and extreme example of racist activity. And yet, the archaeological community (professional and amateur) have and continue to “legally” loot and destroy grave sites of our ancestors who have lived on these lands since the beginning of time according to our Creation and traditional stories in the name of “science”

The archaeological community continues to state that “scientific study” is a reason for collections. The practice and actions need to be deemed “illegal” unless requested by a tribe or tribal community. As a tribal member who grew up on my reservation and as a THPO, I can factually state that “no one at all” has ever come to my reservation or community to “educate me or us” on this so-called premise of “scientific study” or “scientific results”. This unethical practice needs to come to an immediate and complete stop. . . now!

No study is necessary, unless ordained or requested by a tribe or tribal community. This should only be conducted when it is specifically requested and whereby the results and findings belong to that tribal community and not for the gain of professionals who sustain and promote their careers at the expense of our culture and heritage.

Our ancestors and culture did not vanish or mysteriously disappear. . . Our people were murdered, colonized and assimilated. And, in this particular case, we were “stolen” from our rightful resting places and this particular atrocity fully demonstrates that fact with painful and clear empirical evidence.

The act of repatriation is costly! It puts me, as a NAGPRA Specialist, at “. . . emotional, spiritual and physical risk . . .” that is otherwise completely unnecessary. As a result of “this collection” I will drive more than 1,000 miles, spend countless hours coordinating repatriation actions and put myself at continued “. . . emotional, spiritual, and physical risk . . .” to complete work that is critical and now very necessary.

This repatriation is long overdue and reflects shame on the previous versions of NAGPRA that stood in the way of an ancestors' rightful return home and to curators have in the past “held our ancestors' as spiritual prisoners and hostages” in the name of “scientific”!

No apologies can be given or issued. It is now upon me, alone, to care for and bring this child home physically and help them complete their spiritual journey.

I also find it very necessary to point out the fact that the current teams and field of repatriation specialist that I work with are extremely helpful, kind and respectful. While it is critical and necessary to write about and expose the ugliness of the past, it is equally critical and necessary to recognize that many professionals put their full effort into correcting historical wrongs and are instrumental in helping tribal communities heal the past and their actions contribute to “Transforming Archaeology for Tomorrow” from the way we know it today.

Gabrielle Carpentier, Curator of Anthropology of the San Bernardino County Museum is one of those professionals who deserves recognition for being a part of that healing process for my tribal community.

Cultural Affiliation

Based on the information available and the results of consultation, cultural affiliation is reasonably identified by the geographical location or acquisition history of the human remains and associated funerary objects described in this notice.

Determinations

San Bernardino County Museum has determined that:

• The human remains described in this notice represent the physical remains of one individual of Native American ancestry.

• The one object described in this notice are reasonably believed to have been placed intentionally with or near individual human remains at the time of death or later as part of the death rite or ceremony.

• There is a connection between the human remains and associated funerary objects described in this notice and the Bishop Paiute Tribe and the Fort Independence Indian Community of Paiute Indians of the Fort Independence Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 26, 2026. If competing requests for repatriation are received, San Bernardino County Museum must determine the most appropriate requestor prior to repatriation. Requests for joint repatriation of the human remains and associated funerary objects are considered a single request and not competing requests. San Bernardino County Museum is responsible for sending a copy of this notice to the Indian Tribes and Native Hawaiian organizations identified in this notice and any other consulting parties.

Authority: Native American Graves Protection and Repatriation Act, 25 U.S.C. 3003, and the implementing regulations, 43 CFR 10.10.

Dated: January 15, 2026.
Melanie O'Brien,
Manager, National NAGPRA Program.

[FR Doc. 2026-01539 Filed 1-26-26; 8:45 am]

BILLING CODE 4312-52-P